DEPARTMENT OF STATE

[Public Notice 4925]

Shipping Coordinating Committee; Notice of Meeting

The Shipping Coordinating Committee (SHC) will conduct an open meeting at 1 p.m. on Thursday, September 8, 2005, in Room 3200-3202 of the Department of Transportation Headquarters, 400 Seventh Street, SW., Washington, DC 20590-0001. The primary purpose of the meeting is to prepare for the Tenth Session of the International Maritime Organization (IMO) Sub-Committee on Dangerous Goods, Solid Cargoes and Containers to be held at the IMO Headquarters in London, England from September 26 to September 30, 2005.

The primary matters to be considered include:

—Amendments to the International Maritime Dangerous Goods (IMDG) Code and Supplements including harmonization of the IMDG Code with the United Nations Recommendations on the Transport of Dangerous Goods, and review of Annex III of the Marine Pollution Convention (MARPOL 73/78), as amended.

—Review and mandatory application of the Code of Safe Practice for Solid Bulk Cargoes (BC Code), including evaluation of properties of solid bulk cargo.

—Casualty and incident reports and analysis.

—Amendments to the Code of Safe Practice for Cargo Stowage and Securing (CSS Code).

—Guidance on serious structural deficiencies in containers; reporting procedure on serious structural deficiencies.

—Measures to enhance maritime security.

—Revision of the guidelines for the Transport and Handling of Limited Amounts of Hazardous and Noxious Liquid Substances in Bulk on Offshore Support Vessels (LHNS) and the guidelines for the Design and Construction of Offshore Supply Vessels (OSV).

—Amendments to the guidelines for partially weather tight hatchway covers on board containerships.

—Extension of the Code of Practice for the Safe Unloading and Loading of Bulk Carriers (BLU Code) to include grain.

—Guidance on providing safe working conditions for securing of containers.

Members of the public may attend the meeting up to the seating capacity of the room. Interested persons may seek information about attendance by writing: CDR R.J. Hennessy or Mr. R.C. Bornhorst, U.S. Coast Guard (G-MSO-3), Room 1210, 2100 Second Street, SW., Washington, DC 20593-0001 or by calling (202) 267-1694.

Dated: August 3, 2005.
Clayton L. Diamond,
Executive Secretary, Shipping Coordinating Committee, Department of State.

[FR Doc. 05-15931 Filed 8-10-05; 8:45 am]

BILLING CODE 4710-09-P